DEPARTMENT OF THE TREASURY

Appointment of Members to the Legal Division Performance Review Board for Fiscal Year 2004

Under the authority granted to me as General Counsel of the Department of the Treasury, including the authority conferred by 31 U.S.C. 301 and Treasury Department Order No. 101-5 (revised), and pursuant to the Civil Service Reform Act, I hereby appoint the following individuals to the General Counsel Panel of the Legal Division Performance Review Board for Fiscal Year 2004:

James W. Carroll, Jr., who shall serve as Chairperson;

Thomas M. McGivern, Assistant to the General Counsel (Legislation, Litigation, and Disclosure);

Russell L. Munk, Assistant General Counsel (International Affairs);

Kenneth R. Schmalzbach, Assistant General Counsel (General Law and Ethics);

Roberta K. McInerney, Assistant General Counsel (Banking and Finance);

Marilyn L. Muench, Deputy Assistant General Counsel (International Affairs);

Peter A. Bieger, Deputy Assistant General Counsel (Banking and Finance);

Daniel P. Shaver, Chief Counsel, United States Mint;

Robert M. Tobiassen, Chief Counsel, Alcohol and Tobacco Tax and Trade Bureau;

Barbara C. Hammerle, Chief Counsel, Office of Foreign Assets Control;

Judith R. Starr, Chief Counsel, Financial Crimes Enforcement Network; and

Brian L. Ferrell, Chief Counsel, Bureau of the Public Debt.

Dated: October 27, 2004.
Arnold I. Havens,
General Counsel.

[FR Doc. 04-24606 Filed 11-3-04; 8:45 am]

BILLING CODE 4810-25-P